Title 3—

The President

Proclamation 10027 of May 6, 2020

National Day of Prayer, 2020

By the President of the United States of America

A Proclamation

On this National Day of Prayer, Americans reaffirm that prayer guides and strengthens our Nation, and we express, with humility and gratitude, our “firm reliance on the protection of divine Providence.” As one Nation under God, we share a legacy of faith that sustains and inspires us and a heritage of religious liberty. Today, we join together and lift up our hearts, remembering the words of 1 John 5:14 that tell us when “we ask anything according to His will, He hears us.”

From our earliest days, our dependence upon God has brought us to seek His divine counsel and unfailing wisdom. Our leaders have often encouraged their fellow citizens to seek wisdom from God and have recognized God's power to lead our Nation ahead to brighter days. When the prospects for our independence seemed bleak, General George Washington proclaimed a national day of “fasting, humiliation and prayer, humbly to supplicate the mercy of Almighty God.” Following the devastating destruction of the Civil War, President Lincoln delivered his second inaugural address and invoked the power of prayer to “bind up the nation's wounds.” And more than 100 years later, President Reagan noted our long reliance on prayer throughout our history, writing that “through the storms of revolution, Civil War, and the great world wars as well as during times of disillusionment and disarray, the Nation has turned to God in prayer for deliverance.”

Today, as much as ever, our prayerful tradition continues as our Nation combats the coronavirus. During the past weeks and months, our heads have bowed at places outside of our typical houses of worship, whispering in silent solitude for God to renew our spirit and carry us through unforeseen and seemingly unbearable hardships. Even though we have been unable to gather together in fellowship with our church families, we are still connected through prayer and the calming reassurance that God will lead us through life's many valleys. In the midst of these trying and unprecedented times, we are reminded that just as those before us turned to God in their darkest hours, so must we seek His wisdom, strength, and healing hand. We pray that He comforts those who have lost loved ones, heals those who are sick, strengthens those on the front lines, and reassures all Americans that through trust in Him, we can overcome all obstacles.

May we never forget that prayer guides and empowers our Nation and that all things are possible with God. In times of prosperity, strife, peace, and war, Americans lean on His infinite love, grace, and understanding. Today, on this National Day of Prayer, let us come together and pray to the Almighty that through overcoming this coronavirus pandemic, we develop even greater faith in His divine providence.

In 1988, the Congress, by Public Law 100-307, as amended, called on the President to issue each year a proclamation designating the first Thursday in May as a National Day of Prayer, “on which the people of the United States may turn to God in prayer and meditation at churches, in groups, and as individuals.”

NOW, THEREFORE, I, DONALD J. TRUMP, President of the United States of America, do hereby proclaim May 7, 2020, as a National Day of Prayer. I encourage all Americans to observe this day, reflecting on the blessings our Nation has received and the importance of prayer, with appropriate programs, ceremonies, and activities in their houses of worship, communities, and places of work, schools, and homes consistent with the White House's “Guidelines for Opening up America Again.”

IN WITNESS WHEREOF, I have hereunto set my hand this sixth day of May, in the year of our Lord two thousand twenty, and of the Independence of the United States of America the two hundred and forty-fourth.

[FR Doc. 2020-10225

Filed 5-8-20; 11:15 am]

Billing code 3295-F0-P